DEPARTMENT OF COMMERCE

Foreign-Trade Zones Board

[B-80-2012]

Foreign-Trade Zone 163—Ponce, PR; Notification of Proposed Production Activity; Zimmer Manufacturing BV (Medical Devices); Ponce, PR

CODEZOL, C.D., grantee of FTZ 163, submitted a notification of proposed production activity on behalf of Zimmer Manufacturing BV (Zimmer), located in Ponce, Puerto Rico. The notification conforming to the requirements of the regulations of the Board (15 CFR 400.22) was received on November 1, 2012.

A separate application for subzone status at the Zimmer facility was submitted and will be processed under Section 400.31 of the Board's regulations. The facility is used for the production, warehousing and distribution of orthopedic implants for knee and hip reconstruction as well as trauma devices. Production under FTZ procedures could exempt Zimmer from customs duty payments on the foreign status components used in export production. On its domestic sales, Zimmer would be able to choose the duty rates during customs entry procedures that apply to the finished products (duty-free) for the foreign status inputs noted below. Customs duties also could possibly be deferred or reduced on foreign status production equipment.

Components and materials sourced from abroad include: polymers of ethylene in primary forms; acrylic polymers in primary forms; silicones in primary forms; self-adhesive shapes of plastics; other shapes of plastics; packaging; bars, rods, angles shapes and sections of stainless steel; articles of iron or steel; and, artificial joints, parts and accessories (duty rate ranges from duty-free to 6.5%).

Public comment is invited from interested parties. Submissions shall be addressed to the Board's Executive Secretary at the address below. The closing period for their receipt is December 26, 2012.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: November 5, 2012.
Andrew McGilvray,
Executive Secretary.

[FR Doc. 2012-27776 Filed 11-14-12; 8:45 am]

BILLING CODE P